DEPARTMENT OF HEALTH AND HUMAN SERVICES

National Institutes of Health

National Institute of Mental Health; Amended Notice of Meeting

Notice is hereby given of a change in the meeting of the National Institute of Mental Health Special Emphasis Panel, October 14, 2015, 3:00 p.m. to October 14, 2015, 5:00 p.m., National Institutes of Health, Neuroscience Center, 6001 Executive Boulevard, Rockville, MD 20852 which was published in the Federal Register on September 18, 2015, 80 FRN 56474.

This meeting is being amended to add a panel name. The panel name is “Career Award.” The meeting is closed to the public.

Dated: October 14, 2015.
Carolyn A. Baum,
Program Analyst, Office of Federal Advisory Committee Policy.

[FR Doc. 2015-26561 Filed 10-19-15; 8:45 am]

BILLING CODE 4140-01-P